DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA's) Center for Substance Abuse Treatment (CSAT) National Advisory Council will meet on April 15, 2015, from 9:30 a.m.-5:00 p.m. (EDT) and will include a session that is closed to the public.

The closed meeting will include the review of grant applications, which contain budget information, including the description of how an agency prices its services, information on proposed business relationships and subcontracts. Grant applications also contain personal information and contact information on agency principles. Discussion of proposed funding and awardees would be made public prior to the required congressional notification of grant award. Since the closed meeting will include discussion and evaluation of grant applications reviewed by Initial Review Groups and involve an examination of confidential financial and business information as well as personal information concerning the applicants, it will be closed to the public from 9:30 a.m. to 11:00 a.m. as determined by the SAMHSA Administrator, in accordance with Title 5 U.S.C. 552b(c)(4) and (6) and (c)(9)(B) and 5 U.S.C. App. 2, section 10(d).

The open session of the meeting will be held from 11:00 a.m.-5:00 p.m. and will include consideration of minutes from the SAMHSA CSAT NAC meeting of August 27, 2014, Director's report, discussion of SAMHSA's role regarding treatment of mental illness and substance use disorders, budget update, Pregnant and Postpartum Women and Medication Assisted Treatment panel discussions, and a recovery presentation and discussion.

The meeting will be held at the SAMHSA building, 1 Choke Cherry Road, Great Falls Conference Room, Rockville, MD 20850. Attendance by the public will be limited to space available and will be limited to the open sessions of the meeting. Interested persons may present data, information, or views, orally or in writing, on issues pending before the Council. Written submissions should be forwarded to the contact person on or before April 5, 2015. Oral presentations from the public will be scheduled at the conclusion of the meeting. Individuals interested in making oral presentations are encouraged to notify the contact on or before April 5, 2015. Five minutes will be allotted for each presentation.

The open meeting session may be accessed via telephone. To attend on site, obtain the call-in number and access code, submit written or brief oral comments, or request special accommodations for persons with disabilities, please register on-line at http://nac.samhsa.gov/Registration/meetingsRegistration.aspx, or communicate with SAMHSA's Committee Management Officer, LCDR Holly Berilla (see contact information below).

Substantive meeting information and a roster of Council members may be obtained either by accessing the SAMHSA Council Web site at: http://www.samhsa.gov/about-us/advisory-councils/csat-national-advisory-council or by contacting LCDR Berilla.

Substantive program information may be obtained after the meeting by accessing the SAMHSA Council Web site, http://nac.samhsa.gov/, or by contacting LCDR Berilla.

Council Name: SAMHSA's Center for Substance Abuse Treatment National Advisory Council.

Date/Time/Type:

April 15, 2015, 9:30 a.m.-11:00 a.m. EDT, CLOSED

April 15, 2015, 11:00 a.m.-5:00 p.m. EDT, OPEN

Place: SAMHSA Building, 1 Choke Cherry Road, Great Falls Conference Room, Rockville, Maryland 20850.

Contact: LCDR Holly Berilla, Committee Management Officer and Acting Designated Federal Official, CSAT National Advisory Council, 1 Choke Cherry Road, Rockville, Maryland 20857 (mail). Telephone: (240) 276-1252. Fax: (240) 276-2252. Email: holly.berilla@samhsa.hhs.gov.

Summer King,
Statistician, SAMHSA.

[FR Doc. 2015-07284 Filed 3-30-15; 8:45 am]

BILLING CODE 4162-20-P